DEPARTMENT OF VETERANS AFFAIRS

[OMB Control No. 2900-NEW]

Agency Information Collection Activity: Survey of Individuals Using Their Entitlement to Educational Assistance Under the Educational Assistance Programs Administered by the Secretary of Veterans Affairs

AGENCY: Veterans Benefits Administration, Department of Veterans Affairs.

ACTION: Notice.

SUMMARY: Veterans Benefits Administration, Department of Veterans Affairs, Department of Veterans Affairs (VA), is announcing an opportunity for public comment on the proposed new collection of certain information by the agency. Under the Paperwork Reduction Act (PRA) of 1995, Federal agencies are required to publish notice in the Federal Register concerning each new proposed collection of information, and allow 60 days for public comment in response to the notice.

DATES: Written comments and recommendations on the proposed collection of information should be received on or before February 22, 2021.

ADDRESSES: Submit written comments on the collection of information through Federal Docket Management System (FDMS) at www.Regulations.gov or to Nancy J. Kessinger, Veterans, Veterans Benefits Administration (20M33), Department of Veterans Affairs, 810 Vermont Avenue NW, Washington, DC 20420 or email to nancy.kessinger@va.gov. Please refer to “OMB Control No. 2900-NEW” in any correspondence. During the comment period, comments may be viewed online through FDMS.

FOR FURTHER INFORMATION CONTACT: Danny S. Green at (202) 421-1354.

SUPPLEMENTARY INFORMATION: Under the PRA of 1995, Federal agencies must obtain approval from the Office of Management and Budget (OMB) for each collection of information they conduct or sponsor. This request for comment is being made pursuant to Section 3506(c)(2)(A) of the PRA.

With respect to the following collection of information, VBA invites comments on: (1) Whether the proposed collection of information is necessary for the proper performance of VBA's functions, including whether the information will have practical utility; (2) the accuracy of VBA's estimate of the burden of the proposed collection of information; (3) ways to enhance the quality, utility, and clarity of the information to be collected; and (4) ways to minimize the burden of the collection of information on respondents, including through the use of automated collection techniques or the use of other forms of information technology.

Authority: 44 U.S.C. 3501-21.

Title: Survey of Individuals Using Their Entitlement To Educational Assistance Under The Educational Assistance Programs Administered By The Secretary of Veterans Affairs.

OMB Control Number: 2900-NEW.

Type of Review: New data collection.

Abstract: The Educational Assistance Program Feedback Survey is designed to measure experience of beneficiaries of educational assistance programs administered by the Veterans Affairs (VA), including under chapters 30, 32, 33, and 35 of title 38 United States Code. The information will help the VA improve programs and better serve Veterans interested in educational assistance. Educational Assistance Program feedback data will be collected using an online transactional survey or paper disseminated via an invitation email or mailed letter sent to selected beneficiaries. The survey questionnaire includes 52 questions, though in actuality due to branching depending on responses to each question respondents will complete anywhere from 8-49 questions (8 if respondents passed their benefit to dependents; 39-49 questions for all other respondents). The survey contains general rating-scale questions (e.g., a scale of 1-5 from Very dissatisfied to Very satisfied; or Not at all effective to Extremely effective) to assess satisfaction with educational assistance programs, resources, training as well as questions assessing education/training outcomes (completion of program, current income level) and has been approved by the Education Service leadership. These questions have been mapped to the Public Law 114-315 (December 15, 2016) section 414. After the survey has been distributed, recipients will have two weeks to complete the survey. Invitees will receive a reminder email or mailed letter after one week. The sample will be distributed across four Education Benefit Programs: Post-9/11 GI Bill (Chapter 33), Montgomery GI Bill—Active Duty (Chapter 30), Veterans Education Assistance Program (VEAP; Chapter 32), and Survivors' and Dependents' Educational Assistance (DEA; Chapter 35). The overall sample size is determined so that the reliability of survey estimate is 3% Margin of Error at a 95% Confidence Level. Once data collection is completed, the participant responses in the survey will be weighted so that the samples more closely represent the overall population. Weighting models will rely on beneficiary age and gender.

Affected Public: Individuals.

Estimated Annual Burden: 180 hours.

Estimated Average Burden per Respondent: 10 minutes.

Frequency of Response: One time.

Estimated Number of Respondents: 1,080.

By direction of the Secretary.
Danny S. Green,
VA PRA Clearance Officer, Office of Quality, Performance and Risk, Department of Veterans Affairs.

[FR Doc. 2020-28183 Filed 12-21-20; 8:45 am]

BILLING CODE 8320-01-P